DEPARTMENT OF LABOR

Employment and Training Administration

[TA-W-59,362; TA-W-59,362A; TA-W-59,362B]

Mount Vernon Mills, Inc., Trion Denim Mill Division, Trion, GA; Including Employees of Mount Vernon Mills, Inc. Trion Denim Mill Division, Trion, GA Located in: Verona, NJ, Riedsville, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on May 31, 2006, applicable to workers of Mount Vernon Mills, Inc., Trion Denim Mill Division, Trion, Georgia. The notice was published in the Federal Register on June 22, 2006 (71 FR 35949).

At the request of the State agency, the Department reviewed the certification for workers of the subject firm.

New information shows that worker separations have occurred involving employees of the Trion, Georgia facility of Mount Vernon Mills, Inc., Trion Denim Mill Division Group, Inc. located in Verona, New Jersey and Riedsville, North Carolina. Ms. Jennifer Finn and Mr. Michael White provided sales and product development functions supporting the production of denim cloth that is produced at the Trion, Georgia location of the subject firm.

Based on these findings, the Department is amending this certification to include employees of the Trion, Georgia facility of Mount Vernon Mills, Inc., Trion Denim Mill Division working out of Verona, New Jersey and Riedsville, North Carolina.

The intent of the Department's certification is to include all workers of Mount Vernon Mills, Inc., Trion Denim Mill Division, Trion, Georgia who were adversely affected by increased customer imports.

The amended notice applicable to TA-W-59,362 is hereby issued as follows:

All workers of Mount Vernon Mills, Inc., Trion Denim Mill Division, Trion, Georgia (TA-W-59,362), including employees of Mount Vernon Mills, Inc., Trion Denim Mill Division, Trion, Georgia located in Verona, New Jersey (TA-W-59,362A) and Riedsville, North Carolina (TA-W-59,362B), who became totally or partially separated from employment on or after May 9, 2005, through May 31, 2008, are eligible to apply for adjustment assistance under Section 223 of the Trade Act of 1974, and are also eligible to apply for alternative trade adjustment assistance under Section 246 of the Trade Act of 1974.

Signed at Washington, DC this 4th day of February 2008.
Elliott S. Kushner,
Certifying Officer, Division of Trade Adjustment Assistance.

[FR Doc. E8-2620 Filed 2-12-08; 8:45 am]

BILLING CODE 4510-FN-P